NUCLEAR REGULATORY COMMISSION

[Docket No. 50-412]

Pennsylvania Power Company, Ohio Edison Company, Firstenergy Nuclear Operating Company, Beaver Valley Power Station, Unit No. 2; Environmental Assessment and Finding of No Significant Impact

The U.S. Nuclear Regulatory Commission (NRC) is considering issuance of an exemption from certain requirements of its regulations for Facility Operating License No. NPF-73, issued to FirstEnergy Nuclear Operating Company, et al. (the licensee), for operation of Beaver Valley Power Station, Unit No. 2 (BVPS-2), located in Shippingport, Pennsylvania.

Environmental Assessment

Identification of the Proposed Action

The proposed action would exempt the licensee from the requirements of Title 10 of the Code of Federal Regulations (10 CFR) Section 50.71(e)(4) regarding submission of revisions to the Final Safety Analysis Report (FSAR) for BVPS-2. The proposed action would extend the regulatory requirement for submission of the next required update to the BVPS-2 FSAR from April 25, 2001, to August 23, 2001. The revision submitted would be required to reflect all changes made from the date the last revision was filed on April 30, 1999, to October 25, 2000 (6 months prior to the originally-required filing date of April 25, 2000).

The proposed action is in accordance with the licensee's application for exemption dated March 13, 2001 (Agencywide Documents Access and Management System (ADAMS) Accession No. ML010790328).

The Need for the Proposed Action

Section 50.71(e)(4) requires licensees to submit updates to their FSAR within 6 months after each refueling outage providing that the interval between successive updates does not exceed 24 months. BVPS-2's most recent refueling outage was completed on October 25, 2000, and the most recent revision to the BVPS-2 FSAR was filed on April 30, 1999. In order to comply with 10 CFR 50.71(e)(4), the licensee would need to file its latest update to the BVPS-2 FSAR by April 25, 2001.

The need for the proposed action is based on taking advantage of the efficiencies of the NRC's recently commenced electronic information exchange (EIE) process which allows licensee's to voluntarily submit documents to the NRC over the internet or on a CD-ROM. The NRC issued Regulatory Issue Summary 2001-05, “Guidance on Submitting Documents to the NRC by Electronic Information Exchange or on CD-ROM,” on January 25, 2001 (ADAMS Accession No. ML003768343). The proposed action is requested due to the extensive nature of the planned FSAR revision (expected to exceed 1000 pages). Use of licensee and NRC resources to update the numerous hardcopies of the FSAR can be substantially reduced by providing an electronic version of the revised FSAR in its entirety. An additional 120 days from the currently required filing date reflects the licensee's estimated time required for production of an electronic version in lieu of the hardcopies.

Environmental Impacts of the Proposed Action

The NRC has completed its evaluation of the proposed action and concludes that the proposed action is administrative in nature and is unrelated to plant operations.

The proposed action will not significantly increase the probability or consequences of accidents, no changes are being made in the types of any effluents that may be released off site, and there is no significant increase in occupational or public radiation exposure. Therefore, there are no significant radiological environmental impacts associated with the proposed action.

With regard to potential nonradiological impacts, the proposed action does not involve any historic sites. It does not affect nonradiological plant effluents and has no other environmental impact. Therefore, there are no significant nonradiological environmental impacts associated with the proposed action.

Accordingly, the NRC concludes that there are no significant environmental impacts associated with the proposed action.

Alternatives to the Proposed Action

As an alternative to the proposed action, the staff considered denial of the proposed action (i.e., the “no-action” alternative). Denial of the application would result in no change in current environmental impacts. The environmental impacts of the proposed action and the alternative action are similar.

Alternative Use of Resources

This action does not involve the use of any resources not previously considered in the Final Environmental Statement for BVPS-2, dated September 30, 1985 (Nuclear Documents System (NUDOCS) Accession No. 8509300559).

Agencies and Persons Consulted

In accordance with its stated policy, on March 23, 2001, the NRC staff consulted with the Pennsylvania State official, Mr. L. Ryan, of the Pennsylvania Department of Environmental Protection Bureau, Division of Nuclear Safety, regarding the environmental impact of the proposed action. The State official had no comments.

Finding of No Significant Impact

On the basis of the environmental assessment, the NRC concludes that the proposed action will not have a significant effect on the quality of the human environment. Accordingly, the NRC has determined not to prepare an environmental impact statement for the proposed action.

For further details with respect to the proposed action, see the licensee's letter dated March 13, 2001. Documents may be examined, and/or copied for a fee, at the NRC's Public Document Room, located at One White Flint North, 11555 Rockville Pike (first floor), Rockville, Maryland. Publicly available records will be accessible electronically from the ADAMS Public Library component on the NRC Web site, http://www.nrc.gov (the Electronic Reading Room).

Dated at Rockville, Maryland, this 17th day of April 2001.
For the Nuclear Regulatory Commission.
Lawrence J. Burkhart,
Project Manager, Section 1, Project Directorate I, Division of Licensing Project Management, Office of Nuclear Reactor Regulation.

[FR Doc. 01-9955 Filed 4-20-01; 8:45 am]

BILLING CODE 7590-01-P